SMALL BUSINESS ADMINISTRATION

[Disaster Declaration # 20486 and # 20487; KENTUCKY Disaster Number KY-20005]

Presidential Declaration Amendment of a Major Disaster for Public Assistance Only for the Commonwealth of Kentucky

AGENCY: U.S. Small Business Administration.

ACTION: Amendment 2.

SUMMARY: This is an amendment of the Presidential declaration of a major disaster for Public Assistance Only for the Commonwealth of KENTUCKY (FEMA-4804-DR), dated 07/23/2024.

Incident: Severe Storms, Straight-line Winds, Tornadoes, Landslides, and Mudslides.

Incident Period: 05/21/2024 through 05/27/2024.

DATES: Issued on 08/21/2024.

Physical Loan Application Deadline Date: 09/23/2024.

Economic Injury (EIDL) Loan Application Deadline Date: 04/23/2025.

ADDRESSES: Visit the MySBA Loan Portal at https://lending.sba.gov to apply for a disaster assistance loan.

FOR FURTHER INFORMATION CONTACT: Vanessa Morgan, Office of Disaster Recovery & Resilience, U.S. Small Business Administration, 409 3rd Street SW, Suite 6050, Washington, DC 20416, (202) 205-6734.

SUPPLEMENTARY INFORMATION: The notice of the President's major disaster declaration for Private Non-Profit organizations in the Commonwealth of KENTUCKY, dated 07/23/2024, is hereby amended to include the following area as adversely affected by the disaster.

Primary County: Bell.

All other information in the original declaration remains unchanged.

(Catalog of Federal Domestic Assistance Number 59008)

Francisco Sánchez, Jr.,
Associate Administrator, Office of Disaster Recovery & Resilience.

[FR Doc. 2024-19691 Filed 8-30-24; 8:45 am]

BILLING CODE 8026-09-P